DEPARTMENT OF TRANSPORTATION

Federal Aviation Administration

Publication of Index of Administrator's Decisions and Orders in Civil Penalty Actions; Discontinuation Notice

AGENCY: Federal Aviation Administration (FAA), DOT.

ACTION: Notice of discontinuation of publication of index.

SUMMARY: The agency will no longer publish in the Federal Register an index of the Administrator's civil penalty decisions and orders. The agency has determined that such publication is unnecessary and impracticable, given that indexes of the decisions and orders are now available on the agency's Internet website and through commercial publishers. The agency will continue to provide copies of the index to members of the public upon request.

FOR FURTHER INFORMATION CONTACT: Vicki Leemon, Manager, Adjudication Branch (AGC-430), Federal Aviation Administration, 400 7th Street, SW., Suite PL 200-A, Washington, DC 20590, Telephone: (202) 366-4118.

SUPPLEMENTARY INFORMATION: In 49 U.S.C. 46301, Congress authorized the FAA Administrator to assess civil penalties against those who violate the FAA's governing status or any regulations issued under that statute. Likewise, in 49 U.S.C. 5123, Congress authorized the Administrator to assess civil penalties against those who violate the Federal hazardous materials transportation statute or the hazardous materials regulations. Under the rules of practice governing hearings and appeals of civil penalty actions (14 CFR part 13, subpart G), the Administrator or the Administrator's delegate is designated as the FAA decisionmaker to review and decide appeals of initial decisions issued by administrative law judge who hold adjudicatory hearings in these civil penalty actions. The Administrator, as the decisionmaker, issues the final decisions and orders of the agency in these cases.

The Administrative Procedure Act (APA) requires Federal agencies to publish, at least quarterly, current indexes of the agencies' final opinions and orders. 5 U.S.C. 552(a)(2)(A) and (E). To this end, since October 31, 1990, the FAA has published indexes of the agency's final opinions and orders in civil penalty cases in the Federal Register. The agency published the last index in the Federal Register on January 23, 2001. 66 FR 7532, January 23, 2001.

The APA provides one exception to the requirement that agencies publish indexes of final agency orders and decisions. The exception is for situations in which the agency determines by order published in the Federal Register that publication of the indexes is unnecessary and impracticable. 5 U.S.C. 552(a)(2)(E).

Since the FAA began publishing indexes of the Administrator's civil penalty decisions and orders in 1990, the agency has created a website on the Internet that contains the indexes and other resources. The address for the website is: www.faa.gov/agc/cpwebsite.

The FAA is making available through its website more information than has been included in the quarterly indexes in the Federal Register. The website includes all of the Administrator's decisions in FAA civil penalty cases. In addition, the website provides access to cumulative indexes of decisions and orders by: (1) Case name; (2) order number; (3) subject matter; and (4) regulation. The website has information about civil penalty cases appealed to Federal courts of appeals or Federal district courts, as well as information about the FAA Hearing Docket and the Department of Transportation's Docket Management System. The Administrator's delegations of authority to FAA officials, the Rules of Practice in Civil Penalty Cases, and other pertinent information are also available on the website. The FAA updates the website on a monthly basis.

A number of commercial publishers also publish indexes of the Administrator's orders and decisions. Two such publications are Federal Aviation Decisions, which is published by Clark Boardman Callaghan, a subsidiary of West Group, 50 Broad Street East, Rochester, NY 14694, Telephone: (716) 546-1490; and Hawkins Civil Penalty Cases Digest Service, published by Hawkins Publishing Company, PO Box 480, Mayo, MD 21106, Telephone: (410) 798-1677. The electronic databases LEXIS (TRAN library, FAA file), WestLaw (F-TRAN library), CompuServe, and FedWorld include the Administrator's civil penalty orders and decisions. Finally, the Administrator's civil penalty orders and decisions are available on CD-ROM through Aeroflight Publications, PO Box 854, 433 Main Street, Gruver, TX 79040, Telephone: (806) 733-2483.

Given the time and resources that the agency is now expending in updating the civil penalty website, and given that indexes of the orders and decisions are readily available through the website and other sources, the agency has determined that it is unnecessary and impracticable to continue publishing the indexes in the Federal Register. The agency will, however, provide copies of the indexes upon request, as required by 5 U.S.C. 552(a)(2)(E). Persons wishing copies of the indexes should contact Vicki Leemon, Manager, Adjudication Branch (AGC-430), Federal Aviation Administration, 400 7th Street, SW., Suite PL 200-A, Washington, DC 20590, Telephone: (202) 366-4118.

Issued in Washington, DC on May 15, 2002.
David G. Leitch,
Chief Counsel.

[FR Doc. 02-12856 Filed 5-21-02; 8:45 am]

BILLING CODE 4910-13-M